Title 3—

The President

Proclamation 9842 of February 7, 2019

Addressing Mass Migration Through the Southern Border of the United States

By the President of the United States of America

A Proclamation

In Proclamation 9822 of November 9, 2018 (Addressing Mass Migration Through the Southern Border of the United States), I found that our immigration and asylum system is in crisis as a consequence of the mass migration of aliens across the border between the United States and Mexico (southern border). Accordingly, pursuant to sections 212(f) and 215(a) of the Immigration and Nationality Act (INA) (8 U.S.C. 1182(f) and 1185(a), respectively), I found that the unlawful entry of aliens through that border is detrimental to the interests of the United States and suspended and limited entry of such aliens. I exempted from the scope of Proclamation 9822 any alien who entered the United States at a port of entry and properly presented for inspection, as well as any lawful permanent resident of the United States.

Section 2(d) of Proclamation 9822 directed the Secretary of State, the Attorney General, and the Secretary of Homeland Security jointly to submit to me a recommendation on whether an extension or renewal of the suspension and limitation on entry in Proclamation 9822 is in the interests of the United States. Those officials have now jointly recommended extending the suspension and limitation for an additional 90 days.

As that recommendation reflects, the problem of large numbers of aliens traveling through Mexico to enter our country unlawfully or without proper documentation has not materially improved, and indeed in several respects has worsened, since November 9, 2018. An average of approximately 2,000 inadmissible aliens continue to enter the United States each day at our southern border. And large, organized groups of aliens continue to travel through Mexico towards the United States with the reported intention to enter the United States unlawfully or without proper documentation.

The ability of the United States to address those problems has also been hampered by a nationwide injunction issued by a United States District Judge in the Northern District of California. That injunction currently prevents the Attorney General and the Secretary of Homeland Security from implementing an interim final rule that would render any alien who enters the country in contravention of a proclamation limiting or suspending entry at the southern border, including Proclamation 9822, ineligible to be granted asylum. The United States is appealing that injunction. Should the injunction be lifted, aliens who enter the United States unlawfully through the southern border in contravention of this proclamation will be ineligible to be granted asylum under that interim final rule.

As President, I must act to protect the national interest, and to maintain an effectively functioning asylum system for legitimate asylum seekers who demonstrate that they have fled persecution and warrant the many special benefits associated with being granted asylum. In view of the foregoing circumstances, and the joint recommendation from the Secretary of State, the Attorney General, and the Secretary of Homeland Security, I have determined to extend the suspension and limitation, as set forth below, on entry into the United States through the southern border established by Proclamation 9822.

NOW, THEREFORE, I, DONALD J. TRUMP, by the authority vested in me by the Constitution and the laws of the United States of America, including sections 212(f) and 215(a) of the INA, hereby find that, absent the measures set forth in this proclamation, the entry into the United States of persons described in section 1 of this proclamation would be detrimental to the interests of the United States, and that their entry should be subject to certain restrictions, limitations, and exceptions. I therefore hereby proclaim the following:

Section 1. Suspension and Limitation on Entry. The entry of any alien into the United States across the international boundary between the United States and Mexico is hereby suspended and limited, subject to section 2 of this proclamation. That suspension and limitation shall expire 90 days after the date of this proclamation or the date on which an agreement permits the United States to remove aliens to Mexico in compliance with the terms of section 208(a)(2)(A) of the INA (8 U.S.C. 1158(a)(2)(A)), whichever is earlier.

Sec. 2. Scope and Implementation of Suspension and Limitation on Entry. (a) The suspension and limitation on entry pursuant to section 1 of this proclamation shall apply only to aliens who enter the United States after the date of this proclamation.

(b) The suspension and limitation on entry pursuant to section 1 of this proclamation shall not apply to any alien who enters the United States at a port of entry and properly presents for inspection, or to any lawful permanent resident of the United States.

(c) Nothing in this proclamation shall limit an alien entering the United States from being considered for withholding of removal under section 241(b)(3) of the INA (8 U.S.C. 1231(b)(3)) or protection pursuant to the regulations promulgated under the authority of the implementing legislation regarding the Convention Against Torture and Other Cruel, Inhuman or Degrading Treatment or Punishment, or limit the statutory processes afforded to unaccompanied alien children upon entering the United States under section 279 of title 6, United States Code, and section 1232 of title 8, United States Code.

(d) No later than 75 days after the date of this proclamation, the Secretary of State, the Attorney General, and the Secretary of Homeland Security shall jointly submit to the President, through the Assistant to the President for National Security Affairs, a recommendation on whether an extension or renewal of the suspension or limitation on entry in section 1 of this proclamation is in the interests of the United States.

Sec. 3. Interdiction. The Secretary of State and the Secretary of Homeland Security shall continue to consult with the Government of Mexico regarding appropriate steps—consistent with applicable law and the foreign policy, national security, and public-safety interests of the United States—to address the approach of large groups of aliens traveling through Mexico with the intent of entering the United States unlawfully, including efforts to deter, dissuade, and return such aliens before they physically enter United States territory through the southern border.

Sec. 4. Severability. It is the policy of the United States to enforce this proclamation to the maximum extent possible to advance the interests of the United States. Accordingly:

(a) if any provision of this proclamation, or the application of any provision to any person or circumstance, is held to be invalid, the remainder of this proclamation and the application of its other provisions to any other persons or circumstances shall not be affected thereby; and

(b) if any provision of this proclamation, or the application of any provision to any person or circumstance, is held to be invalid because of the failure to follow certain procedures, the relevant executive branch officials shall implement those procedural requirements to conform with existing law and with any applicable court orders.

Sec. 5. General Provisions. (a) Nothing in this proclamation shall be construed to impair or otherwise affect:

(i) the authority granted by law to an executive department or agency, or the head thereof; or

(ii) the functions of the Director of the Office of Management and Budget relating to budgetary, administrative, or legislative proposals.

(b) This proclamation shall be implemented consistent with applicable law and subject to the availability of appropriations.

(c) This proclamation is not intended to, and does not, create any right or benefit, substantive or procedural, enforceable at law or in equity by any party against the United States, its departments, agencies, or entities, its officers, employees, or agents, or any other person.

IN WITNESS WHEREOF, I have hereunto set my hand this seventh day of February, in the year of our Lord two thousand nineteen, and of the Independence of the United States of America the two hundred and forty-third.

[FR Doc. 2019-02303

Filed 2-11-19; 11:15 am]

Billing code 3295-F9-P